DEPARTMENT OF HEALTH AND HUMAN SERVICES

Administration for Children and Families

Proposed Information Collection Activity; Comment Request

Proposed Projects

Title: Temporary Assistance for Needy Families (TANF) Caseload Reduction Documentation Process, ACF-202 (OFA).

OMB Control No: 0970-0199.

Description: To ensure that States receive credit for families that have become self-sufficient and left the welfare rolls, Congress created a caseload reduction credit. The credit reduces the required participation rate that a State must meet for a fiscal year. To receive a caseload reduction credit, a State must complete form ACF-202, the Caseload Reduction Report. The report provides information needed to calculate a caseload reduction credit, and thus determine the participation standard each State must meet for the fiscal year. This report derives from section 407(a)(3) of the Social Security Act and the implementing Federal Regulations at 45 CFR part 261, subpart D.

Respondents: States.

Annual Burden Estimates
Instrument | Number of respondents | Number of responses per respondent | Average burden hours per response | Total burden hours
Caseload Reduction Doc. Process, ACF-202 (OFA) | 54 | 1 | 160 | 8,640

Title: Reasonable Cause/Corrective Action Documentation Process (OFA).

OMB Control No: 0970-0199.

Description: The Social Security Act provides that States can be penalized for misusing TANF funds and for failure to comply with other requirements. If a State wishes to dispute a penalty determination or wants to be considered for a waiver of a penalty, the State may submit a “reasonable cause” justification and/or a corrective compliance plan. After careful consideration of one or both documents, we will notify the State of our findings with respect to the penalty. This process was established by section 409 of the Social Security Act and the implementing Federal regulations at 45 CFR part 261, subpart E, Part 262, and Part 264.

Respondents: States.

Annual Burden Estimates
Instrument | Number of respondents | Number of responses per respondent | Average burden hours per response | Total burden hours
Reasonable Cause/Corrective Action Documentation Process (OFA) | 54 | 2 | 160 | 17,280

Title: Annual Report on State Maintenance-of-Effort (MOE) Programs, ACF-204 (OFA).

OMB Control No: 0970-0199.

Description: States must submit an annual report containing information on their State MOE programs via form ACF-204. The report is an important source for information about the different ways States are using their resources to help families attain and maintain self-sufficiency. The information is used to discuss program characteristics in our annual report to Congress, to respond to Congressional and public inquiries about how TANF programs are evolving and to assess State MOE expenditures. The statutory basis for this report is found in sections 409(a)(7) and 411(a)(3) of the Social Security Act and the implementing Federal regulations at 45 CFR 265.9.

Respondents: States.

Annual Burden Estimates
Instrument | Number of respondents | Number of responses per respondent | Average burden hours per response | Total burden hours
Annual Report on State MOE Programs, ACF-204 | 54 | 1 | 128 | 6,912

Estimated Total Annual Burden Hours: 32,832.

In compliance with the requirements of section 3506(c)(2)(A) the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 13, 2002.
Robert Sargis,
Reports Clearance Officer.

[FR Doc. 02-21040 Filed 8-19-02; 8:45 am]

BILLING CODE 4184-01-M